DEPARTMENT OF DEFENSE

Office of the Secretary

U.S. Notice to Mariners—Change in Distribution Methods

AGENCY: National Geospatial-Intelligence Agency (NGA), Department of Defense.

ACTION: Notice.

SUMMARY: The National Geospatial-Intelligence Agency (NGA) is changing the way we make U.S. Notice to Mariners available to the public. We will continue to publish electronic versions of the U.S. Notice to Mariners and make them available free of charge via the Internet, but we will no longer mass-roduce and mail copies of each Notice.

DATES: This change takes effect with U.S. Notice to Mariners, January 1, 2005.

ADDRESSES: Although we are not requesting them, you may make comments on this change. To make sure that your comments and related material are not entered more than once in the docket, please submit them by only one of the following means:

(1) Electronically through the Web site for the Docket Management System at webmasternss@nga.mil.

(2) By mail to: Maritime Division, MS D-44, National Geospatial-Intelligence Agency, 4600 Sangamore Road, Bethesda, Maryland 20816-5003.

(3) By fax: 301-227-4211.

FOR FURTHER INFORMATION CONTACT: For further information about the substance of this notice, contact Mr. Keith Alexander, Maritime Division, MS D-44, National Geospatial-Intelligence Agency, 4600 Sangamore Road, Bethesda, Maryland 20816-5003.

SUPPLEMENTARY INFORMATION: The U.S. Notice to Mariners is the oldest, continuous U.S. Government publication, in constant publication with a break every week since 1869. Despite this long and noble record, hard copy production and distribution of the U.S. Notice to Mariners is no longer the most efficient means of providing critical navigational information to mariners. Current computer/communication technology makes worldwide data transfer both rapid and reliable. Thus, mariners will not longer need to wait weeks for time-senstive navigational information as is currently required with mailing hard copy U.S. Notice to Mariners around the globe. Additionally, the phase out of hard copy U.S. Notice to Mariners production will conserve critical resources. For example, NGA annually produces a volume of U.S. Notice to Mariners that, if stacked in a column, would measure roughly 22,000 feet high. Put another way, transitioning from hard copy production and distribution will conserve roughly 2,360 trees per year.

In conclusion, the NGA hard copy transition strategy will reduce the time required for mariners to receive important marine navigational information, elimate costs associated with the printing and distribution of this publication, and conserve natural resources such as pulpwood and the fossil fuels needed to produce paper and transport this weekly product to numerous destinations around the globe.

Dated: July 28, 2004.
L.M. Bynum,
Alternate OSD Federal Register Liaison Officer, Department of Defense.

[FR Doc. 04-17558 Filed 8-2-04; 8:45 am]

BILLING CODE 5001-06-M